DEPARTMENT OF ENERGY

Federal Energy Regulatory Commission

Combined Notice of Filings

Take notice that the Commission has received the following Natural Gas Pipeline Rate and Refund Report filings:

Filings Instituting Proceedings

Docket Numbers: CP23-27-000.

Applicants: Southern Natural Gas Company, L.L.C.

Description: Southern Natural Gas Company, L.L.C. submits Abbreviated Application for Abandonment of the Transportation Agreement with Texaco, Inc.

Filed Date: 12/19/22.

Accession Number: 20221219-5246.

Comment Date: 5 p.m. ET 1/9/23.

Docket Numbers: RP22-1031-000.

Applicants: Transwestern Pipeline Company, LLC.

Description: Motion Filing: Motion Tariff Records into Effect RP22-1031-000 to be effective 1/1/2023.

Filed Date: 12/20/22.

Accession Number: 20221220-5204.

Comment Date: 5 p.m. ET 1/2/23.

Docket Numbers: RP23-296-000.

Applicants: Carolina Gas Transmission, LLC.

Description: Compliance filing: CGT—2022 Interruptible Revenue Sharing Report to be effective N/A.

Filed Date: 12/20/22.

Accession Number: 20221220-5037.

Comment Date: 5 p.m. ET 1/2/23.

Docket Numbers: RP23-297-000.

Applicants: Rockies Express Pipeline LLC.

Description: § 4(d) Rate Filing: REX 2022-12-20 Negotiated Rate Agreement Amendment to be effective 12/21/2022.

Filed Date: 12/20/22.

Accession Number: 20221220-5196.

Comment Date: 5 p.m. ET 1/2/23.

Docket Numbers: RP23-298-000.

Applicants: Great Basin Gas Transmission Company.

Description: § 4(d) Rate Filing: New Baseline Tariff—First Revised Version No. 1 to be effective 1/23/2023.

Filed Date: 12/21/22.

Accession Number: 20221221-5000.

Comment Date: 5 p.m. ET 1/2/23.

Docket Numbers: RP23-299-000.

Applicants: NGO Transmission, Inc.

Description: § 4(d) Rate Filing: Negotiated Rate Filing to be effective 1/1/2023.

Filed Date: 12/21/22.

Accession Number: 20221221-5005.

Comment Date: 5 p.m. ET 1/2/23.

Docket Numbers: RP23-300-000.

Applicants: Midcontinent Express Pipeline LLC.

Description: § 4(d) Rate Filing: Clean Up Filing Dec 2022 to be effective 2/1/2023.

Filed Date: 12/21/22.

Accession Number: 20221221-5007.

Comment Date: 5 p.m. ET 1/2/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP22-1031-002.

Applicants: Transwestern Pipeline Company, LLC.

Description: Compliance filing: File and Motion Revised and Cancelled Tariff Records RP22-1031-000 to be effective 1/1/2023.

Filed Date: 12/20/22.

Accession Number: 20221220-5207.

Comment Date: 5 p.m. ET 1/2/23.

Docket Numbers: RP23-166-000.

Applicants: Gulf Run Transmission, LLC.

Description: Report Filing: Notification CP20-68-000, et al. Actual In-Service Date 12/16/2022 to be effective N/A.

Filed Date: 12/19/22.

Accession Number: 20221219-5174.

Comment Date: 5 p.m. ET 1/2/23.

Docket Numbers: RP23-191-000.

Applicants: Enable Gas Transmission, LLC.

Description: Report Filing: Notification CP20-68-000, et al. Actual In-Service Date 12/16/2022 to be effective N/A.

Filed Date: 12/19/22.

Accession Number: 20221219-5179.

Comment Date: 5 p.m. ET 1/2/23.

Docket Numbers: RP23-191-001.

Applicants: Enable Gas Transmission, LLC.

Description: Compliance filing: Supplemental Actual In-Service Date for CP20-68, et al 12-16-22 to be effective 12/16/2022.

Filed Date: 12/20/22.

Accession Number: 20221220-5105.

Comment Date: 5 p.m. ET 1/2/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 21, 2022.
Kimberly D. Bose,
Secretary.

[FR Doc. 2022-28248 Filed 12-27-22; 8:45 am]

BILLING CODE 6717-01-P